NUCLEAR REGULATORY COMMISSION

Advisory Committee on Nuclear Waste; Notice of Meeting

The Advisory Committee on Nuclear Waste (ACNW) will hold its 146th meeting on October 21-23, 2003, Room T-2B3, 11545 Rockville Pike, Rockville, Maryland.

The entire meeting will be open to public attendance.

The schedule for this meeting is as follows:

Tuesday, October 21, 2003

10:30 a.m.-10:40 a.m.: Opening Statement (Open)—The Chairman will open the meeting with brief opening remarks, outline the topics to be discussed, and indicate items of interest.

10:40 a.m.-12 Noon.: Summer Intern Project (Open)—The ACNW summer intern will provide her final report to the Committee on the project titled, “Assessment Model Uncertainty in Performance Assessment.”

1 p.m.-1:30 p.m.: Biosphere Scenarios and Dose Calculation Working Group (Open)—The Committee will review the agenda and speakers for the Biosphere Working Group scheduled for February 24-26, 2004 in Rockville, Maryland.

1:30 p.m.-2 p.m.: Site Visit—Yucca Mountain, Nevada (Open)—The Committee will finalize its November 18, 2003, trip to Yucca Mountain and the Amargosa Valley, and its subsequent technical discussions in Las Vegas, NV with DOE representatives and stakeholders during the 147th ACNW Meeting, November 19-20, 3004.

2:15 p.m.-6 p.m.: Committee Retreat (Open/Closed)—The Committee will continue its discussion (from the 145th meeting) on technical topics it intends to examine over the next 12 to 18 months and ACNW activities and related matters.

Note: A portion of this session may be closed pursuant to 5 U.S.C. 552b(c) (2) and (6) to discuss organizational and personnel matters that relate solely to internal personnel rules and practices of the ACNW, and information the release of which would constitute a clearly unwarranted invasion of personal privacy.

Wednesday, October 22, 2003

8:30 a.m.-8:35 a.m.: Opening Statement (Open)—The Chairman will make opening remarks regarding the conduct of today's sessions.

8:35 a.m.-12:15 p.m.: Yucca Mountain Pre-Closure Safety and Drift Degradation Issues (Open)—The Committee will hear from representatives of the NRC staff on these issues. Presentations will include a summation of the status of related agreements, a demonstration of the pre-closure safety analysis tool, and the MECH-FAIL computer code used to evaluate drift degradation within a geologic repository.

1:30 p.m.-3:30 p.m.: Updated Staff Performance Assessment Code TPA 5.0 and Peer Review Comments (Open)—The Committee will hear from representatives of the NRC staff on the updated TPA Code 5.0 and how external peer review comments were incorporated into the code.

3:45 p.m.-4 p.m.: Waste Management—Related Safety Research Report (Open)—The Committee will discuss plans for ACNW review of NRC waste management-related safety research.

4 p.m.-6 p.m.: Preparation for Meeting with the NRC Commissioners (Open)—The next meeting with the NRC Commissioners is scheduled to be held at 10 a.m. in the Commissioners' Conference Room, One White Flint North on October 23, 2003. The Committee will review its proposed presentations.

Thursday, October 23, 2003

8:30 a.m.-8:35 a.m.: Opening Statement (Open)—The Chairman will make opening remarks regarding the conduct of today's sessions.

8:35 a.m.-9:30 a.m.: Update on Waste Management Topics (Open)—The Committee will receive its semi-annual update on waste management topics from the Director, Division of Waste Management, NMSS.

9:30 a.m.-9:45 a.m.: Discussion of Topics for Meeting with the NRC Commissioners (Open)—The Committee will discuss topics scheduled for the ACNW Meeting with the NRC Commissioners at 10 a.m.

10 a.m.-12 Noon: Meeting with the NRC Commissioners (Open)—The Committee will meet with the NRC Commissioners in the Commissioners' Conference Room, One White Flint North to discuss the following:

• Chairman's Report

• Status and Pathway to Closure on Key Technical Issues

• High-Level Waste Risk Insights

• Total System Performance Assessment (TSPA/TPA) Working Group

• Performance Confirmation Working Group

1 p.m.-2:45 p.m.: Preparation of ACNW Report (Open)—The Committee will discuss potential reports on Yucca Mountain Pre-Closure Safety and Drift Degradation Issues and Updated Staff Performance Code TPA 5.0 (tentative).

2:45 p.m.-3 p.m.: Miscellaneous (Open)—The Committee will discuss matters related to the conduct of Committee activities and matters and specific issues that were not completed during previous meetings, as time and availability of information permit.

Procedures for the conduct of and participation in ACNW meetings were published in the Federal Register on October 11, 2002 (67 FR 63459). In accordance with these procedures, oral or written statements may be presented by members of the public. Electronic recordings will be permitted only during those portions of the meeting that are open to the public. Persons desiring to make oral statements should notify Mr. Howard J. Larson, Special Assistant (Telephone 301/415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACNW meetings. Those wishing to use this service for observing ACNW meetings should contact Mr. Theron Brown, ACNW Audiovisual Technician (301/415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: October 3, 2003.
Andrew L. Bates,
Advisory Committee Management Officer.

[FR Doc. 03-25602 Filed 10-8-03; 8:45 am]

BILLING CODE 7590-01-P